DEPARTMENT OF AGRICULTURE

Food and Nutrition Service

Agency Information Collection Activities: Existing Collection; Comment Request—Forms FNS-806-A, Claim for Reimbursement (National School Lunch and School Breakfast Programs), and FNS-806-B, Claim for Reimbursement (Special Milk Program for Children)

AGENCY: Food and Nutrition Service (FNS), USDA.

ACTION: Notice.

SUMMARY: In accordance with the Paperwork Reduction Act of 1995, this notice invites the general public and other public agencies to comment on this existing information collection. This collection is a renewal of a currently approved collection for reporting school programs data on a monthly basis for the National School Lunch Program, the School Breakfast Program, and the Special Milk Program.

DATES: Written comments must be received on or before February 19, 2013.

ADDRESSES: Comments are invited on: (a) Whether the proposed collection of information is necessary for the proper performance of the functions of the agency, including whether the information will have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to Jon Garcia, Acting Branch Chief, Program Analysis and Monitoring Branch, Food and Nutrition Service, U.S. Department of Agriculture, 3101 Park Center Drive, Room 640, Alexandria, VA 22302. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Room 640, Alexandria, Virginia 22302.

All responses to this notice will be summarized and included in the request for Office of Management and Budget approval. All comments will be a matter of public record.

FOR FURTHER INFORMATION CONTACT: Requests for additional information or copies of this information collection should be directed to Jon Garcia at (703) 305-2600.

SUPPLEMENTARY INFORMATION: Title: 7 CFR Part 210 National School Lunch Program, Part 220 School Breakfast Program, and Part 215 Special Milk Program.

Form Number: FNS-806-A and FNS-806-B.

OMB Number: 0584-0284.

Expiration Date: 03/31/2013.

Type of Request: Revision of a currently approved collection.

Abstract: The National School Lunch Program (NSLP) and School Breakfast Program (SBP), and School Milk Program (SMP) Claim for Reimbursement, Forms FNS-806-A and FNS-806-B, respectively, are used to collect meal and milk data from school food authorities whose participation in these programs are administered directly by the Food and Nutrition Service (FNS) Regional Offices (Regional Office Administered Programs, or ROAP). The FNS Regional Office directly administers the NSLP, SMP, and/or SBP programs in Virginia, Georgia, and Colorado. In order to determine the amount of reimbursement for meals and milk served, the school food authorities are required to complete these forms. The completed forms are either sent to the Child Nutrition Payments Center at the FNS Mid-Atlantic Regional Office where they are entered into a computerized payment system or submitted electronically via the Internet directly into the Child Nutrition Payments Center. The payment system computes earned reimbursement. Earned reimbursement in the NSLP, SBP and SMP is based on performance that is measured as an assigned rate per meal or half pint of milk served. To fulfill the earned reimbursement requirements set forth in NSLP, SBP and SMP regulations issued by the Secretary of Agriculture (7 CFR 210.8 and 220.11; and 215.10), the meal and milk data must be collected on Forms FNS-806-A and FNS-806-B, respectively. These forms are an intrinsic part of the accounting system currently being used by the subject programs to ensure proper reimbursement. The burden hours have decreased from the previously approved burden (1,398) due to a reduction in the number of respondents, School Food Authorities, from 233 to 210.

Affected Public: State and local governments participating in the NSLP, SBP, and SMP under the auspices of the FNS ROAP.

Estimated Number of Respondents: 210 School Food Authorities.

Estimated Number of Responses per Respondent: 12 (Each State agency will submit a 30-day report.)

Estimated Total Annual Responses: 2,520.

Reporting Time per Response: .5 hours.

Estimated Annual Reporting Burden: 1,260 hours.

See the table below for estimated total annual burden for each type of respondent.

Affected public | (b) Form number | (c) Number of respondents | (d) Number responses per respondent | (e) Estimated total annual responses (cxd) | (f) Hours per response | (g) Total burden (exf)
School Food Authority | FNS 806A | 133 | 12 | 1596 | .5 | 798
School Food Authority | FNS 806B | 77 | 12 | 924 | .5 | 462
Total Annual Burden Estimates |  | 210 | 12 | 2,520 | .5 | 1,260

Dated: December 10, 2012.
Audrey Rowe,
Administrator, Food and Nutrition Service.

Attachments:

BILLING CODE 3410-30-P

[FR Doc. 2012-30556 Filed 12-18-12; 8:45 a.m.]

BILLING CODE 3410-30-C